NUCLEAR REGULATORY COMMISSION

Independent External Review Panel To Identify Vulnerabilities in the U.S. Nuclear Regulatory Commission's Materials Licensing Program: Meeting Notice

AGENCY: U.S. Nuclear Regulatory Commission.

ACTION: Notice of meeting.

SUMMARY: NRC will convene a meeting of the Independent External Review Panel to Identify Vulnerabilities in the U.S. Nuclear Regulatory Commission's Materials Licensing Program on October 30, 2007. A sample of agenda items to be discussed during the public session includes: (1) Background of panel's development; (2) review of the panel's charter; and (3) initial planning for future meetings and actions. A copy of the agenda for the meeting can be obtained by e-mailing Mr. Aaron T. McCraw at the contact information below.

Purpose: Discuss the scope of the review panel's objectives and initiate planning of future meetings and actions.

Date and Time for Closed Sessions: There will be no closed sessions during this meeting.

Date and Time for Open Sessions: October 30, 2007, from 1 p.m. to 5 p.m.

Address for Public Meeting: U.S. Nuclear Regulatory Commission, Two White Flint North Building, Room T3C2, 11545 Rockville Pike, Rockville, Maryland 20852.

Public Participation: Any member of the public who wishes to participate in the meeting should contact Mr. McCraw using the information below.

Contact Information: Aaron T. McCraw, e-mail: atm@nrc.gov, telephone: (301) 415-1277.

Conduct of the Meeting

Mr. Thomas E. Hill will chair the meeting. Mr. Hill will conduct the meeting in a manner that will facilitate the orderly conduct of business. The following procedures apply to public participation in the meeting:

1. Persons who wish to provide a written statement should submit an electronic copy to Mr. McCraw at the contact information listed above. All submittals must be received by October 23, 2007, and must pertain to the topic on the agenda for the meeting.

2. Questions and comments from members of the public will be permitted during the meeting, at the discretion of the Chairman.

3. The transcript and written comments will be available for inspection at the NRC Public Document Room, 11555 Rockville Pike, Rockville, Maryland 20852-2738, telephone (800) 397-4209, on or about January 30, 2008.

4. Persons who require special services, such as those for the hearing impaired, should notify Mr. McCraw of their planned attendance.

This meeting will be held in accordance with the Atomic Energy Act of 1954, as amended (primarily Section 161a); the Federal Advisory Committee Act (5 U.S.C. App); and the Commission's regulations in Title 10, U.S. Code of Federal Regulations, Part 7.

Dated: October 11, 2007.
Andrew L. Bates,
Advisory Committee Management Officer.

[FR Doc. E7-20448 Filed 10-16-07; 8:45 am]

BILLING CODE 7590-01-P